DEPARTMENT OF THE INTERIOR

Bureau of Land Management

[16X L1109AF LLUT980300-L01000000.XZ0000-24-1A]

Utah Resource Advisory Council Meeting/Conference Call

AGENCY: Bureau of Land Management, Interior.

ACTION: Notice of meeting/conference call.

SUMMARY: In accordance with the Federal Land Policy and Management Act and the Federal Advisory Committee Act, the Bureau of Land Management's (BLM) Utah Resource Advisory Council (RAC) will host a meeting/conference call.

DATES: The BLM-Utah RAC will host a meeting/conference call on Wednesday, June 29, 2016, from 9:00 a.m.-noon, Mountain Daylight Time.

ADDRESSES: Those attending in person must meet at the BLM-Utah State Office, Monument Conference Room, 440 West 200 South, Fifth Floor, Salt Lake City, Utah 84101.

FOR FURTHER INFORMATION CONTACT: If you wish to listen to the teleconference, orally present material during the teleconference, or submit written material for the RAC to consider during the teleconference, please notify Lola Bird, Public Affairs Specialist, Bureau of Land Management, Utah State Office, 440 West 200 South, Suite 500, Salt Lake City, Utah 84101; phone (801) 539-4033; or, lbird@blm.gov no later than Wednesday, June 22, 2016.

SUPPLEMENTARY INFORMATION: Agenda topics will consist of reports from the following three RAC subcommittees: Eastern Lake Mountains Target Shooting Plan Amendment, Three Creeks Grazing Allotment Environmental Assessment and the Planning 2.0 Proposed Rule. The subcommittees will present recommendations to RAC members for their approval.

A half-hour public comment period will take place from 11:30 a.m.-noon, Mountain Daylight Time. The meeting is open to the public; however, transportation, lodging, and meals are the responsibility of the participating individuals.

Persons who use a telecommunications device for the deaf (TDD) may call the Federal Information Relay Service (FIRS) at 1-800-877-8339 to leave a message or question for the above individual. The FIRS is available 24 hours a day, seven days a week. Replies are provided during normal business hours.

Authority: 43 CFR 1784.4-1.

Jenna Whitlock,
Acting State Director.

[FR Doc. 2016-12863 Filed 5-31-16; 8:45 am]

BILLING CODE 4310-DQ-P